FEDERAL COMMUNICATIONS COMMISSION

47 CFR Part 51

[CC Docket No. 96-98; DA 01-501]

Common Carrier Bureau Grants Motion for Limited Extension of Time for Filing Comments and Reply Comments on the Use of Unbundled Network Elements To Provide Exchange Access Service

AGENCY: Federal Communications Commission.

ACTION: Proposed rule.

SUMMARY: The Commission issued a public notice granting a limited extension of time for filing comments and reply comments on issues raised in conjunction with the use of unbundled network elements to provide exchange access service.

DATES: Comments are due April 5, 2001 and reply comments are due April 30, 2001.

FOR FURTHER INFORMATION CONTACT: Jodie Donovan-May or Tom Navin, Attorney Advisors, Policy and Program Planning Division, Common Carrier Bureau, (202) 418-1580.

SUPPLEMENTARY INFORMATION: This is a summary of the Commission's Public Notice regarding CC Docket No. 96-98, released on February 23, 2001. The complete text of this document is available for inspection and copying during normal business hours in the FCC Reference Information Center, Courtyard Level, 445 12th Street, SW., Washington, DC, and also may be purchased from the Commission's copy contractor, International Transcription Services (ITS, Inc.), CY-B400, 445 12th Street, SW., Washington, DC. It is also available on the Commission's website at http://www.fcc.gov.

Synopsis of Public Notice

1. On January 24, 2001, the Commission released a Public Notice in CC Docket No. 96-98 inviting comment on issues raised in conjunction with the use of unbundled network elements to provide exchange access service. Based on publication of the Public Notice in the Federal Register (66 FR 8555) parties were required to file comments on March 5, 2001 and reply comments on March 19, 2001. On February 22, 2001, BellSouth, SBC, Qwest and Verizon (Movants) filed a motion to extend the dates for filing comments to April 5, 2001 and reply comments to April 30, 2001 in order to submit joint factual data and economic analysis addressing alternatives to incumbent facilities and the degree to which carriers are using those alternatives. They also state that an extension is necessary to account for substantial market developments over the last year, and that an extension will speed resolution of this proceeding by avoiding piecemeal submissions of data and arguments.

2. Although requests for extension of time are not routinely granted, in this instance, the Commission finds that the Movants have shown good cause for an extension of time in this proceeding. This matter shall continue to be treated as a “permit-but disclose” proceeding in accordance with the Commission's ex parte rules. All other requirements discussed in the January 24, 2001 Public Notice remain in effect.

Federal Communications Commission.
Michelle Carey,
Chief, Policy and Program Planning Division, Common Carrier Bureau.

[FR Doc. 01-5227 Filed 3-2-01; 8:45 am]

BILLING CODE 6712-01-U